DEPARTMENT OF COMMERCE

National Oceanic and Atmospheric Administration

RIN 0648-XC450

Pacific Fishery Management Council; Public Meeting

AGENCY: National Marine Fisheries Service (NMFS), National Oceanic and Atmospheric Administration (NOAA), Commerce.

ACTION: Notice of a public meeting.

SUMMARY: The Pacific Fishery Management Council (Pacific Council) will convene a workshop to examine possibilities to improve management strategy concepts and elements currently in use for the Pacific sardine fishery.

DATES: The meeting will be held February 5-8, 2013.

ADDRESSES: The meeting will be held at the Scripps Institution of Oceanography, in the Edward W. “Ted” Scripps II Room of the Seaside Forum, 8610 Kennel Way, La Jolla, CA.

Council address: Pacific Fishery Management Council, 7700 NE Ambassador Place, Suite 101, Portland, OR 97220.

FOR FURTHER INFORMATION CONTACT: Kerry Griffin, Staff Officer; telephone: (503) 820-2280.

SUPPLEMENTARY INFORMATION: The objectives of the workshop are as follows:

1. Evaluate the current management strategy with regard to the biological risk to sardine stocks. This approach includes reviewing and refining the mathematical specifications to develop a risk assessment projection model that could be used to evaluate different Fmsy proxies and trade-offs achieved by different parameterizations of appropriate harvest control rule elements.

2. Consider the possibility of new predictive relationships between sardine recruitment success and environmental parameters, and consider the proportion of the stock that occurs in U.S. waters under varying oceanographic regimes.

3. Review information on California Current ecosystem models and consider elements that would form the basis for a management strategy evaluation (MSE), and develop an initial plan for a process and schedule for a full MSE.

Although non-emergency issues not contained in this agenda may come before this group for discussion, those issues may not be the subject of formal action during this meeting. Action will be restricted to those issues specifically listed in this notice and any issues arising after publication of this notice that require emergency action under Section 305(c) of the Magnuson-Stevens Fishery Conservation and Management Act, provided the public has been notified of the CPSMT's intent to take final action to address the emergency.

Special Accommodations

This listening station is physically accessible to people with disabilities. Requests for sign language interpretation or other auxiliary aids should be directed to Mr. Dale Sweetnam (858) 546-7170, at least 5 days prior to the meeting date.

Dated: January 15, 2013.
Tracey L. Thompson,
Acting Deputy Director, Office of Sustainable Fisheries, National Marine Fisheries Service.

[FR Doc. 2013-01051 Filed 1-17-13; 8:45 am]

BILLING CODE 3510-22-P